DEPARTMENT OF ENERGY

Federal Energy Regulatory Commission

[Docket No. RM95-9-014]

Open Access Same-Time Information System and Standards of Conduct

Issued August 1, 2000.

AGENCY: Federal Energy Regulatory Commission.

ACTION: Order revising OASIS standards and communication protocols document adopted in Order No. 889 and announcement of availability.

SUMMARY: The Federal Energy Regulatory Commission (the Commission) adopts “OASIS Standards and Communication Protocols Document (Version 1.4)” that contains technical revisions to Version 1.3 of that same document. This document is available (see ADDRESSES below).

EFFECTIVE DATE: The requirements of this order will take effect January 8, 2001.

ADDRESSES: Copies of the OASIS Standards are available at the Office of the Secretary, Federal Energy Regulatory Commission, 888 First Street, NE., Washington, DC 20426. E-Mail address:”comment.rm@ferc.fed.us”.

FOR FURTHER INFORMATION CONTACT:

Marvin Rosenberg (Technical Information), Office of Markets, Tariffs, and Rates, Federal Energy Regulatory Commission, 888 First Street, NE., Washington, DC 20426, (202) 208-1283.

Paul Robb (Technical Information), Office of Markets, Tariffs, and Rates, Federal Energy Regulatory Commission, 888 First Street, NE., Washington, DC 20426, (202) 219-2702.

Gary D. Cohen (Legal Information), Office of the General Counsel, Federal Energy Regulatory Commission, 888 First Street, NE., Washington, DC 20426, (202) 208-0321.

SUPPLEMENTARY INFORMATION:

United States of America; Federal Energy Regulatory Commission

Before Commissioners: James J. Hoecker, Chairman; William L. Massey, Linda Breathitt, and Curt Hébert, Jr.; Open Access Same-Time Information System and Standards of Conduct

[Docket No. RM95-9-014]

Order Revising OASIS Standards and Communication Protocols Document Adopted in Order No. 889

Issued August 1, 2000.

I. Introduction

In this Order, the Commission adopts Version 1.4 of the OASIS Standards and Communication Protocols Document (S&CP Document, Version 1.4), consisting of revisions to Version 1.3 of that document. The Commission is adopting these changes after consideration of the comments filed in response to the notice of proposed changes issued in this proceeding on May 19, 2000. Open Access Same-Time Information System and Standards of Conduct, 65 FR 36283, FERC Stats. & Regs. ¶ 35,039 (2000) (May 19 Notice).¹

¹ The May 19 Notice originally was issued as a notice of proposed rulemaking (NOPR). It later was determined that a notice would be more appropriate than a NOPR because the document did not propose any changes in the Commission's regulations. Thus, an errata notice was issued on June 7, 2000, relabeling the NOPR as a notice, and the May 19 Notice was published in the Federal Register on that same day.

II. Background

As explained in the May 19 Notice, the Commission first issued the S&CP Document (Version 1.0) on April 24, 1996, as a separate document that accompanied Order No. 889.² In Order No. 889, we announced that we would periodically update and revise the S&CP Document as needed.³ On September 10, 1996, the Commission issued a revised S&CP Document (Version 1.1) in Open Access Same-Time Information System and Standards of Conduct, 76 FERC ¶ 61,243 (1996). On June 18, 1998, the Commission again issued a revised S&CP Document (Version 1.2) in Open Access Same-Time Information System and Standards of Conduct, 83 FERC ¶ 61,360 (1998). On September 29, 1998, the Commission issued a third revised S&CP Document (Version 1.3) in Open Access Same-Time Information System and Standards of Conduct, 84 FERC ¶ 61,329 (1998).

² See Open Access Same-Time Information System and Standards of Conduct, Order No. 889, 61 FR 21737 (May 10, 1996), FERC Stats. & Regs. ¶ 31,035 at 31,586 (April 24, 1996), order on reh'g, Order No. 889-A, 62 FR 12484 (March 14, 1997), FERC Stats. & Regs. ¶ 31,049 (March 4, 1997), order on reh'g, Order No. 889-B, 81 FERC ¶ 61,253 (1997), order on reh'g, Order No. 889-C, 82 FERC ¶ 61,046 (1998).

³ Order No. 889, FERC Stats. & Regs. ¶ 31,035 at 31,591.

The May 19 Notice was published at 65 FR 36283, with comments due on or before July 7, 2000. Timely comments were filed by the OASIS How Working Group (How Group). These comments incorporate ideas that were also raised in a report jointly filed by the How Group and the Market Interface Committee (an industry group sponsored by the North American Electric Reliability Council (NERC)) on June 16, 2000 in response to requests made by the Commission to these industry working groups in Order No. 638.⁴

⁴ Open Access Same-Time Information System and Standards of Conduct, Order No. 638, FERC Stats. & Regs. ¶ 31,093 (2000).

III. Discussion

The May 19 Notice proposed the following changes to Version 1.3 of the S&CP Document: (1) Post procedures associated with capacity benefit margin; (2) post references on curtailment information, interruptions, and system studies; (3) make modifications to the TRANSREQUEST template; (4) remove the TRANSALT, CURTAIL, and AUDIT templates; (5) add templates for SECURITY, REDUCTION, and SYSTEMDATA; (6) rename the SCHEDULE template as SCHEDULEDETAIL; (7) revise procedures for posting information in the TRANSOFFERING template; (8) add a unique reference to continuation records; (9) revise OASIS performance response times (section 5.3) to add specific required response times; and (10) issue corrections to support the above changes and update the table of contents.

In addition, the May 19 Notice explained that further changes might be needed to reflect the Commission's findings in Order No. 638. Thus, comments were invited on both the merits of the proposed revisions to the S&CP Document as well as on the following:

1. If we adopt the proposed revisions to the S&CP Document, are changes needed to reflect our findings in Order No. 638?

2. Specifically, do any provisions of the proposed S&CP revisions conflict with provisions of Order No. 638? If so, how should those conflicts be resolved?

3. With regard to section 4.3.4.4 on System Data (Recommended S&CP Document Version 1.4 at page 55), this section states that a transmission provider is obligated to post values for one or more of the defined system attributes, but does not state that all system attributes can be requested at the same time. We therefore request comment on whether the description of the template in section 4.3.4.4 should be revised to clarify that all system attributes can be requested at the same time.

4. With regard to section 5.3.3 on Measurement Criteria for OASIS Node Functions (Recommended S&CP Document Version 1.4 at page 108), we see three possible problems. First, section 5.3.3, as recommended, provides performance standards (time limits) for responding to queries regarding TRANSSTATUS and TRANSOFFERING. It does not establish comparable requirements regarding response times for any other queries. We therefore invite comment on whether the proposed performance standards meet customer needs today and for the near term future.

Second, we also note that the recommended performance standards in section 5.3.3 are so specific that they may become obsolete and fail to keep pace with changing technology, market conditions, and user needs. We therefore invite comment on whether it would be preferable to adopt a more general performance standard, such as one that would require a node's response to be sufficient to meet the legitimate needs of its customers.

Third, we also would be open to consideration of other possible revisions to section 5.3.3 that might contain a novel approach preferable to either that proposed in this Notice or that contained in Version 1.3.⁵

⁵ Notes omitted, May 19 Notice at 35,201-202.

The sole comments filed in response to the May 19 Notice were those filed by the How Group. The How Group's comments address questions 1 and 2 above by offering a new section 4.2.10.4 to clarify how comment attributes are to be used, as well as offering suggested revisions to sections 4.2.10, 4.2.13.6, 4.2.13.7, 4.3.6.3 and Data Element Dictionary attributes “CUSTOMER_COMMENTS,” “SELLER_COMMENTS,” “PRIMARY_PROVI- DER_COMMENTS,” AND “STATUS_COMMENTS” to add more characters, adding attributes “COMPETING_REQUEST_FLAG,” “SELLER_ REF,” and revising the attributes “NERC_ CURTAILMENT_PRIORITY,” “POINT_ OF_RECEIPT/POINT_OF_DELIVERY,” and “TS_WINDOW.”

As to question 3 above, the How Group's comments explain that “if the variable SYSTEM_ATTRIBUTE is not provided in the query template SYSTEMDATA then all system attributes will be requested and provided in the response.” If a query does not provide a given query variable, then information will be provided without regard to that variable. This comment does not necessitate or request any revisions to the S&CP Document.

As to the questions above concerning section 5.3.3 of the BPS, the How Group stands by the performance standards proposed in the May 19 Notice. It argues that these performance standards should be adopted now and can later be modified if new technology becomes available that would make them obsolete.

In Open Access Same-Time Information System and Standards of Conduct, Order No. 605, FERC Stats. & Regs. ¶ 31,075 (1999), the Commission stressed the importance of providing customers with information on curtailments.⁶ The MIC/How Groups responded to this concern by submitting comments on September 23, 1999 (September 23 Filing) in Docket No. RM98-3-000 suggesting that the S&CP Document should be revised to include a new scheduling template “SCHEDULEDETAIL” that incorporates information previously supplied in the “CURTAILMENT” template. The September 23 Filing argued that a seven-day lag should be permitted before this information is posted based on concerns over the commercial sensitivity of the underlying information and because the Commission's regulation at 18 CFR 37.6(f) already provides a seven-day lag prior to the posting of information on transmission service schedules. Notice of the September 23 Filing was issued on October 6, 1999, inviting comments on or before November 8, 1999. None was filed.

⁶ FERC Stats. & Regs. ¶ 31,075 at 30,482.

Although not separately reiterated in the cover letter accompanying the January 31, 2000 submittal from the MIC/How Groups, which was the basis for much of the May 19 Notice, the revised templates were included in the S&CP Document, Version 1.4 proposed in the May 19 Notice and set out in Attachment A to that document. On review of this matter, we will accept the suggested seven-day lag before posting because this lag is already permitted with regard to much of the information and because the lag should not interfere with the review of this information by customers and the Commission to detect discriminatory practices. However, we make no finding as to the claim that this information is commercially sensitive and our decision does not rely on that argument.

Finally, in addition to the changes recommended by the MIC/How Groups, we will take this opportunity to correct two typographical errors that we have discovered in the S&CP Document. In Section 4.2.12 and in the Data Dictionary under ANC_SVC_LINK we are changing “ANC_SVC_TYPE” to “AS_TYPE.” This change is reflected in the revised S&CP Document, which is available at an address under ADDRESSES.

IV. Effective Date and Congressional Notification

The How Group has requested that the industry be given six months to prepare for the implementation of Version 1.4 of the S&CP Document before it becomes effective. Based on the assumption that there will probably be a lag of thirty days between adoption of this order by the Commission and its publication in the Federal Register, we will direct that Version 1.4 of the S&CP Document will take effect 150 days from the publication of this order in the Federal Register.

The Commission has determined, with the concurrence of the Administrator of the Office of Information and Regulatory Affairs of the Office of Management and Budget, that this order does not constitute a “major rule” within the meaning of section 351 of the Small Business Regulatory Enforcement Act of 1996. The Commission will submit this order to both houses of Congress and the Comptroller General prior to its publication in the Federal Register.

The Commission orders:

The revised S&CP Document (Version 1.4) is hereby adopted for use by Transmission Providers, to become effective on January 8, 2001, as discussed in the body of this order.

By the Commission.
David P. Boergers,
Secretary.

[FR Doc. 00-19974 Filed 8-9-00; 8:45 am]

BILLING CODE 6717-01-P